Presidential Determination No. 2011-12 of August 26, 2010

Unexpected Urgent Refugee and Migration Needs Resulting from Violence in Kyrgyzstan

Memorandum for the Secretary of State

By the authority vested in me as President by the Constitution and the laws of the United States, including section 2(c)(1) of the Migration and Refugee Assistance Act of 1962 (the “Act”), as amended (22 U.S.C. 2601(c)(1)), I hereby determine, pursuant to section 2(c)(1) of the Act, that it is important to the national interest to furnish assistance under the Act in an amount not to exceed $9.5 million from the United States Emergency Refugee and Migration Assistance Fund for the purpose of meeting unexpected and urgent refugee and migration needs, including by contributions to international, governmental, and nongovernmental organizations and payment of administrative expenses of the Bureau of Population, Refugees, and Migration of the Department of State, related to humanitarian needs resulting from recent violence in Kyrgyzstan.

You are authorized and directed to publish this memorandum in the Federal Register.

THE WHITE HOUSE,

WASHINGTON, August 26, 2010

[FR Doc. 2010-27672

Filed 10-29-10; 8:45 am]

Billing code 4710-10-P